FEDERAL COMMUNICATIONS COMMISSION

[OMB 3060-1286; FR ID 49761]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.”

The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before October 25, 2021.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1286.

Title: Emergency Connectivity Fund Program.

Form Number: FCC Forms 471, 472, 474, and 500.

Type of Review: Extension of a currently approved collection.

Respondents: Business or other for-profit, state, local or tribal government institutions, and other not-for-profit institutions.

Number of Respondents and Responses: 23,000 respondents; 132,100 responses.

Estimated Time per Response: 4.5 hours for FCC Form 471 (4 hours for response; 0.5 hours for recordkeeping); 1.5 hours for FCC Forms 472/474 (1 hour for response; 0.5 hours for recordkeeping); 1.5 hours for Emergency Connectivity Fund Post-Commitment Change Request (streamlines collection based on the FCC Form 500 and FCC Form 471 for use in the Emergency Connectivity Fund Program) (1 hour for response; 0.5 hours for recordkeeping)).

Frequency of Response: On occasion and annual reporting requirements; recordkeeping requirement.

Obligation to Respond: Required to obtain or retain benefits. Statutory authority for this information collection is contained in in sections 1, 4(i), 4(j), 201-205, 214, 254, and 403 of the Communications Act of 1934, as amended, 47 U.S.C. 151-154, 201-205, 218-220, 254, 303(r), 403 and 405 and section 7402 of the American Rescue Plan Act, Public Law 117-2, 135 Stat. 4.

Total Annual Burden: 315,450 hours.

Total Annual Cost: No Cost.

Needs and Uses: The requirements contained herein are necessary to implement and administer the Congressional mandate for the Emergency Connectivity Fund. The information collected herein provides the Commission and USAC with the necessary information to administer the Emergency Connectivity Fund Program, determine the amount of support entities seeking funding are eligible to receive, determine if entities are complying with the Commission's rules, and to prevent waste, fraud, and abuse. The information will also allow the Commission to evaluate the extent to which the Emergency Connectivity Fund is meeting the statutory objectives specified in section 7402 of the American Rescue Plan Act, the Commission's performance goals set forth in the Emergency Connectivity Fund Report and Order, and to evaluate the need for and feasibility of any future revisions to program rules. The name, address, DUNS number and business type will be disclosed in accordance with the Federal Funding Accountability and Transparency Act/Digital Accountability and Transparency Act (FFATA/DATA Act) reporting requirements. Emergency Connectivity Fund Program application, commitment, and disbursement data will also be publicly available.

Federal Communications Commission.
Marlene Dortch,
Secretary. Office of the Secretary.

[FR Doc. 2021-20800 Filed 9-23-21; 8:45 am]

BILLING CODE 6712-01-P